DEPARTMENT OF HEALTH AND HUMAN SERVICES

Solicitation of Nominations for Three Organizations To Serve as Non-Voting Liaison Representatives to the Chronic Fatigue Syndrome Advisory Committee

AGENCY: Office of the Assistant Secretary for Health, Office of the Secretary, Department of Health and Human Services.

ACTION: Notice.

SUMMARY: The Chronic Fatigue Syndrome Advisory Committee (CFSAC) is one of the federal advisory committees for which the Department of Health and Human Services (HHS) provides management support. The Office of the Assistant Secretary for Health (OASH), a staff division in the Office of the Secretary, HHS, is assigned responsibility to provide management support for CFSAC activities. The CFSAC is authorized to have three non-voting liaison representative positions. The organizations designated to fill these positions will be selected from those concerned with myalgic encephalomyelitis/chronic fatigue syndrome (ME/CFS). The Designated Federal Officer (DFO) for CFSAC will select the organizations from which the representative will be selected to fill these vacant positions. The representatives selected to fill these positions will serve a two-year term as a non-voting liaison representative. Details of nomination requirements are provided below.

DATES: Nominations must be received no later than 5 p.m. ET on May 30, 2017, at the address listed below.

ADDRESSES: All nominations should be sent to Commander Gustavo Ceinos, Designated Federal Officer, Chronic Fatigue Syndrome Advisory Committee, Office on Women's Health, Department of Health and Human Services, 200 Independence Avenue SW., Room 728F.6, Washington, DC 20201. Nomination materials, including attachments, may be submitted electronically to cfsac@hhs.gov.

FOR FURTHER INFORMATION CONTACT: Commander Gustavo Ceinos, Designated Federal Officer, Chronic Fatigue Syndrome Advisory Committee, Office on Women's Health, Department of Health and Human Services, 200 Independence Avenue SW., Room 728F.6, Washington, DC 20201. The telephone number is: 202-401-9545. Inquiries can be sent to cfsac@hhs.gov.

SUPPLEMENTARY INFORMATION: CFSAC was established on September 5, 2002. The purpose of the CFSAC is to provide advice and recommendations to the Secretary of HHS, through the Assistant Secretary for Health, on issues related to ME/CFS. CFSAC advises and makes recommendations on a broad range of topics including: (1) Opportunities to improve knowledge and research about the epidemiology, etiologies, biomarkers and risk factors for ME/CFS; (2) research on the diagnosis, treatment, and management of ME/CFS and potential impact of treatment options; (3) strategies to inform the public, health care professionals, and the biomedical academic and research communities about ME/CFS advances; (4) partnerships to improve the quality of life of ME/CFS patients; and (5) strategies to insure that input from ME/CFS patients and caregivers is incorporated into HHS policy and research. Management and support services for Committee activities are provided by staff from the HHS Office on Women's Health, within the OASH. The CFSAC charter is available at https://www.hhs.gov/ash/advisory-committees/cfsac/about-cfsac/charter/index.html.

CFSAC meetings are held not less than two times per year. The CFSAC membership consists of 13 voting members, including the Chair. The voting members are composed of seven biomedical research scientists with demonstrated expertise in biomedical research applicable to ME/CFS; three individuals with expertise in health care delivery, private health care services or insurers, or voluntary organizations concerned with the problems of individuals with ME/CFS, and three are either patients or caregivers affected by ME/CFS.

CFSAC also includes eight non-voting ex-officio representatives from the Agency for Healthcare Research and Quality, Centers for Disease Control and Prevention, Food and Drug Administration, Health Resources and Services Administration, National Institutes of Health, Social Security Administration, U.S. Department of Veteran Affairs, and the Department of Defense.

In 2012, the CFSAC structure was expanded to include three non-voting liaison representative positions. These positions are occupied by representatives from organizations that are concerned with ME/CFS. The terms of the current non-voting liaison representative positions expire in May. The selected organizations will occupy the position for a two-year term.

Nominations: The OASH is requesting nominations of organizations to fill the three non-voting liaison representative positions for the CFSAC. The organizations will be selected by the DFO or designee.

Selection of the three organizations which will serve as non-voting liaison representatives will be based on the organizations' qualifications to contribute to the accomplishment of the CFSAC mission, as described in the Committee charter. In selecting the organizations to be considered for these positions, the OASH will give close attention to equitable geographic distribution and give priority to U.S.-chartered 501(c)(3) organizations that operate within the United States and have membership with demonstrated expertise in ME/CFS and related research, clinical services, or advocacy and outreach on issues concerning ME/CFS.

The individuals designated by the selected organizations to serve as the official liaison representative will perform the associated duties without compensation, and will not receive per diem or reimbursement for travel expenses. The organizations selected will cover expenses for their designated representative to attend, at a minimum, one in-person CFSAC meeting per year during the designated term of appointment.

To qualify for consideration of selection to the Committee, an organization should submit the following items:

(1) A statement of the organization's history, mission, and focus, including information that demonstrates the organization's experience and expertise in ME/CFS and related research, clinical services, or advocacy and outreach on issues of ME/CFS, as well as expert knowledge of the broad issues and topics pertinent to ME/CFS. This information should demonstrate the organization's proven ability to work and communicate with the ME/CFS patient and advocacy community, and other public/private organizations concerned with ME/CFS, including public health agencies at the federal, state, and local levels.

(2) two to four letters of recommendation that clearly state why the organization is qualified to serve on CFSAC in a liaison representative position. These letters should be from individuals who are not part of the organization.

(3) A statement that the organization is willing to serve as a non-voting liaison representative of the Committee and will cover expenses for their representative to attend in-person, at a minimum, one CFSAC meeting per year in Washington, DC, during the designated term of appointment.

(4) A current financial disclosure statement (or annual report) demonstrating the organization's ability to cover expenses for its representative to attend in-person, at a minimum, one CFSAC meeting per year in Washington, DC, during the term of appointment.

Submitted nominations must include these critical elements in order for the organization to be considered for one of the liaison representative positions.

Nomination materials should be typewritten, using a 12-point font and double-spaced. All nomination materials should be submitted (postmarked or received) by May 30, 2017.

Electronic submissions: Nomination materials, including attachments, may be submitted electronically to cfsac@hhs.gov. An email from the CFSAC Support Team will be sent to the nominating organization and/or nominator to confirm receipt of the nomination. If the email confirmation is not received within two working days, please call 202-690-7650. Telephone and facsimile submissions cannot be accepted.

Regular, Express, or Overnight Mail: Written documents may be submitted to the following addressee only: Commander Gustavo Ceinos, Designated Federal Officer, CFSAC, Office on Women's Health, Department of Health and Human Services, 200 Independence Avenue SW., Room 728F.6, Washington, DC 20201.

HHS makes every effort to ensure that the membership of federal advisory committees is fairly balanced in terms of points of view represented. Every effort is made to ensure that a broad representation of geographic areas, sex, ethnic and minority groups, and people with disabilities are given consideration for membership on federal advisory committees. Selection of the represented organizations shall be made without discrimination against the composition of an organization's membership on the basis of age, sex, race, ethnicity, sexual orientation, disability, and cultural, religious, or socioeconomic status.

Authority: 42 U.S.C. 217a, section 222 of the Public Health Service (PHS) Act, as amended. The Committee is governed by the provisions of the Federal Advisory Committee Act, as amended (5 U.S.C. App 2), which sets forth standards for the formation and use of advisory committees.

Dated: April 18, 2017.
Nicole Greene,
Acting Director, Office on Women's Health.

[FR Doc. 2017-08383 Filed 4-27-17; 8:45 am]

BILLING CODE 4150-42-P